DEPARTMENT OF THE INTERIOR

National Park Service

[NPS-WASO-NAGPRA-NPS0037159; PPWOCRADN0-PCU00RP14.R50000]

Notice of Inventory Completion: Alabama Department of Archives and History, Montgomery, AL

AGENCY: National Park Service, Interior.

ACTION: Notice.

SUMMARY: In accordance with the Native American Graves Protection and Repatriation Act (NAGPRA), the Alabama Department of Archives and History (ADAH) has completed an inventory of human remains and associated funerary objects and has determined that there is a cultural affiliation between the human remains and associated funerary objects and Indian Tribes or Native Hawaiian organizations in this notice. The human remains and associated funerary objects were removed from Dallas County, Montgomery County, Elmore County, and Russell County, AL.

DATES: Repatriation of the human remains and associated funerary objects in this notice may occur on or after February 2, 2024.

ADDRESSES: Kellie Bowers, NAGPRA Coordinator, the Alabama Department of Archives and History, P.O. Box 300100, 624 Washington Avenue, Montgomery, AL 36130, telephone (334) 353-4731, email nagpra.adah@archives.alabama.gov.

SUPPLEMENTARY INFORMATION: This notice is published as part of the National Park Service's administrative responsibilities under NAGPRA. The determinations in this notice are the sole responsibility of the Alabama Department of Archives and History. The National Park Service is not responsible for the determinations in this notice. Additional information on the determinations in this notice, including the results of consultation, can be found in the inventory or related records held by the Alabama Department of Archives and History.

Description

Dallas County, AL

At an unknown date, human remains representing, at minimum, one individual were removed from the Durant Bend site by members of the Alabama Anthropological Society. Between 1916 and 1951, the human remains were donated to the ADAH (Human Remains Identification Number 4107). No associated funerary objects are present.

Montgomery County, AL

On October 24, 1915, human remains representing, at minimum, one individual were removed from the 30 Acre Field site by members of the Alabama Anthropological Society. Between 1916 and 1951, the human remains were donated to the ADAH (Human Remains Identification Number 4105). No associated funerary objects are present.

At an unknown date, human remains representing, at minimum, one individual were removed from the Toasi site by members of the Alabama Anthropological Society. Between 1916 and 1951, the human remains were donated to the ADAH (Human Remains Identification Number 4099). No associated funerary objects are present.

On March 15, 1918, human remains representing, at minimum, one individual were removed from the Toasi site by members of the Alabama Anthropological Society. Between 1916 and 1951, the human remains were donated to the ADAH (Human Remains Identification Number 4100). The six associated funerary objects are six Mississippian Plain ceramic sherds.

At an unknown date, human remains representing, at minimum, one individual were removed from the Big Eddy site by member(s) of the Montgomery Art and Archaeology Society (MAS). A former member of the MAS donated the material to the ADAH in 2021 (Human Remains Identification Number 1MT5-1). The ADAH accepted these materials for the sole purpose of repatriation under NAGPRA. The two associated funerary objects are stone debitage fragments.

At an unknown date, human remains representing, at minimum, one individual were removed from the Jere Shine site by member(s) of the Montgomery Art and Archaeology Society. A former member of the MAS donated the material to the ADAH in 2021 (Human Remains Identification Number 1MT6-1). The ADAH accepted these materials for the sole purpose of repatriation under NAGPRA. The six associated funerary objects are one shell fragment, one stone object, one ceramic object, one lot of faunal remains, one lot of mixed shell, charcoal, and soil, and one lot of fragmentary shells.

At an unknown date, human remains representing, at minimum, one individual were removed from the Jere Shine site by member(s) of the Montgomery Art and Archaeology Society (MAS). A former member of the MAS donated the material to the ADAH in 2021 (Human Remains Identification Number 1MT6-2). The ADAH accepted these materials for the sole purpose of repatriation under NAGPRA. The eight associated funerary objects are five ceramic sherds, two faunal remains, and a one lot of mixed shell, charcoal, and soil.

At an unknown date, human remains representing, at minimum, one individual were removed from the Jere Shine site by member(s) of the Montgomery Art and Archaeology Society (MAS). A former member of the MAS donated the material to the ADAH in 2021 (Human Remains Identification Number 1MT6-3). The ADAH accepted these materials for the sole purpose of repatriation under NAGPRA. The ten associated funerary objects are five ceramic sherds, one unidentifiable fragmentary metal object, one lump of burnt organic material (charcoal), two stones, and one lot of mixed shell, charcoal, and soil.

At an unknown date, human remains representing, at minimum, one individual were removed from the Jere Shine site by member(s) of the Montgomery Art and Archaeology Society (MAS). A former member of the MAS donated the material to the ADAH in 2021 (Human Remains Identification Number 1MT6-4). The ADAH accepted these materials for the sole purpose of repatriation under NAGPRA. The five associated funerary objects are four faunal remains and one lot of mixed shell, charcoal, and soil.

At an unknown date, human remains representing, at minimum, one individual were removed from the Jere Shine site by member(s) of the Montgomery Art and Archaeology Society (MAS). A former member of the MAS donated the material to the ADAH in 2021 (Human Remains Identification Number 1MT6-5). The ADAH accepted these materials for the sole purpose of repatriation under NAGPRA. The ten associated funerary objects are nine faunal remains and one lot of mixed shell, charcoal, and soil.

Elmore County, AL

At an unknown date, human remains representing, at minimum, one individual were removed from the site of Lyon's Plantation by members of the Alabama Anthropological Society. On November 8, 1909, the human remains were donated to the ADAH (Human Remains Identification Number 4112). No associated funerary objects are present.

At an unknown date, human remains representing, at minimum, one individual were removed from unnamed site 1MC6 by member(s) of the Montgomery Art and Archaeology Society (MAS). A former member of the MAS donated the material to the ADAH in 2021 (Human Remains Identification Number 1MC6-1). The ADAH accepted these materials for the sole purpose of repatriation under NAGPRA. The 50 associated funerary objects are five stone debitage fragments, one silver earring, two shell knobbed pins, one glass shard, one decorated ceramic sherd, 38 glass trade beads, one lot of faunal remains, and one lot of mixed shell, charcoal, and soil.

Russell County, AL

At an unknown date, human remains representing, at minimum, one individual were removed from the Coweta site by members of the Alabama Anthropological Society. Between 1916 and 1951, the human remains were donated to the ADAH (Human Remains Identification Numbers 4117). No associated funerary objects are present.

On March 11, 1906, human remains representing, at minimum, one individual were removed from the Coweta site by members of the Alabama Anthropological Society. Between 1916 and 1951, the human remains were donated to the ADAH (Human Remains Identification Numbers 4118). The one associated funerary object is a ceramic vessel.

At an unknown date, human remains representing, at minimum, one individual were removed from the Coweta site by members of the Alabama Anthropological Society. Between 1916 and 1951, the human remains were donated to the ADAH (Human Remains Identification Numbers 4124). No associated funerary objects are present.

On December 28, 1911, human remains representing, at minimum, one individual were removed from the Coweta site by members of the Alabama Anthropological Society. Between 1916 and 1951, the human remains were donated to the ADAH (Human Remains Identification Numbers 4127). The 14 associated funerary objects are eight stone projectile points, one brass tube, one smoking pipe, three stone celts, and one stone preform.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archaeological information, geographical information, historical information, kinship, and linguistics.

Determinations

Pursuant to NAGPRA and its implementing regulations, and after consultation with the appropriate Indian Tribes and Native Hawaiian organizations, the Alabama Department of Archives and History has determined that:

• The human remains described in this notice represent the physical remains of 16 individuals of Native American ancestry.

• The 112 objects described in this notice are reasonably believed to have been placed with or near individual human remains at the time of death or later as part of the death rite or ceremony.

• There is a relationship of shared group identity that can be reasonably traced between the human remains and associated funerary objects described in this notice and the Alabama-Coushatta Tribe of Texas; Alabama-Quassarte Tribal Town; Coushatta Tribe of Louisiana; Jena Band of Choctaw Indians; Kialegee Tribal Town; Miccosukee Tribe of Indians; Mississippi Band of Choctaw Indians; Poarch Band of Creek Indians; Seminole Tribe of Florida; The Muscogee (Creek) Nation; The Seminole Nation of Oklahoma; and the Thlopthlocco Tribal Town.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after February 2, 2024. If competing requests for repatriation are received, the Alabama Department of Archives and History must determine the most appropriate requestor prior to repatriation. Requests for joint repatriation of the human remains and associated funerary objects are considered a single request and not competing requests. The Alabama Department of Archives and History is responsible for sending a copy of this notice to the Indian Tribes and Native Hawaiian organizations identified in this notice.

Authority: Native American Graves Protection and Repatriation Act, 25 U.S.C. 3003, and the implementing regulations, 43 CFR 10.9, 10.10, and 10.14.

Dated: December 20, 2023.
Melanie O'Brien,
Manager, National NAGPRA Program.

[FR Doc. 2023-28915 Filed 1-2-24; 8:45 am]

BILLING CODE 4312-52-P